CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed AmeriCorps Competitive Advantage study. The primary purpose of the analysis is to identify any competitive advantage in the job market that may be conferred by AmeriCorps experience. Collection of this data is not required for obtaining grant funding support from CNCS.

Copies of the information collection request can be obtained by contacting the office listed in the ADDRESSES section of this notice.

DATES: Written comments must be submitted to the individual and office listed in the ADDRESSES section by March 24, 2014.

ADDRESSES: You may submit comments, identified by the title of the information collection activity, by any of the following methods:

(1) By mail sent to: Corporation for National and Community Service, Office of Research and Evaluation; Attention Adrienne DiTommaso, Research Assistant, 10th floor, 10902A; 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Adrienne DiTommaso, (202) 606-3611, or by email at aditommaso@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The primary purpose of the analysis is to identify any competitive advantage in the job market that may be conferred by AmeriCorps experience. The results of the analysis will inform CNCS policy at large, programming content and policy, and further lines of research around economic outcomes of national service members.

This is a new information collection request. This study would administer a 15 minute, online survey to a sample of managers with hiring authority in the public, private, and non-profit sectors. The survey consists of a section comprised of experimental questions regarding managers' hiring preferences when considering applicant skill and experience profiles, and a section of demographic questions.

Type of Review: New.

Agency: Corporation for National and Community Service.

Title: AmeriCorps Competitive Advantage Study.

OMB Number: None.

Agency Number: None.

Affected Public: Managers with hiring authority employed in the public, non-profit, and private sectors.

Total Respondents: Approximately 500.

Frequency: One time.

Average Time per Response: 15 minutes.

Estimated Total Burden Hours: 125.

Total Burden Cost (capital/startup): None.

Total Burden Cost (operating/maintenance): None.

Comments submitted in response to this notice will be summarized and/or included in the request for Office of Management and Budget approval of the information collection request; they will also become a matter of public record.

Dated: January 14, 2014.
Mary Hyde,
Acting Director, Office of Research and Evaluation.

[FR Doc. 2014-01026 Filed 1-17-14; 8:45 am]

BILLING CODE 6050-28-P